DEPARTMENT OF THE TREASURY

Office of Foreign Assets Control

31 CFR Parts 550, 590, and 591

Libyan Sanctions Regulations, Angola (UNITA) Sanctions Regulations, Rough Diamonds (Liberia) Sanctions Regulations

AGENCY: Office of Foreign Assets Control, Treasury.

ACTION: Final rule.

SUMMARY: The Treasury Department's Office of Foreign Assets Control is removing from the Code of Federal Regulations the Libyan Sanctions Regulations, the Angola (UNITA) Sanctions Regulations, and the Rough Diamonds (Liberia) Sanctions Regulations, as a result of the termination of the national emergencies, and revocation of the Executive orders, on which those regulations were based.

DATES: Effective Date: March 30, 2006.

FOR FURTHER INFORMATION CONTACT: Assistant Director, Policy, Office of Foreign Assets Control, tel.: 202/622-4855, or Chief Counsel (Foreign Assets Control), Office of the General Counsel, Department of the Treasury, tel.: 202/622-2410 (not toll free numbers).

SUPPLEMENTARY INFORMATION:

Electronic and Facsimile Availability

This file is available for download without charge in ASCII and Adobe Acrobat readable (*.PDF) formats at GPO Access. GPO Access supports HTTP, FTP, and Telnet at fedbbs.access.gpo.gov. It may also be accessed by modem dialup at 202/512-1387 followed by typing “/GO/FAC.” Paper copies of this document can be obtained by calling the Government Printing Office at 202/512-1530. This document and additional information concerning the programs of the Office of Foreign Assets Control are available for downloading from the Office's Internet Home Page: http://www.treas.gov/ofac, or via FTP at ofacftp.treas.gov. Facsimiles of information are available through the Office's 24-hour fax-on-demand service: Call 202/622-0077 using a fax machine, fax modem, or (within the United States) a touch-tone telephone.

Background

On May 6, 2003, the President issued Executive Order 13298 (68 FR 24857, May 8, 2003), terminating the national emergency declared in Executive Order 12865 of September 26, 1993, with respect to the actions and policies of the National Union for the Total Independence of Angola (“UNITA”) and revoking Executive Orders 12865, 13069, and 13098. In terminating the national emergency, the President chose to end all blocking of any assets previously blocked under the Angola (UNITA) Sanctions Regulations.

On September 20, 2004, the President issued Executive Order 13357 (69 FR 56665, September 22, 2004), terminating the national emergency declared in Executive Order 12543 of January 7, 1986, with respect to the actions and policies of the Government of Libya and revoking Executive Orders 12543, 12544, 12801, and 12538. In terminating the national emergency, the President chose to end all blocking of any assets previously blocked under the Libyan Sanctions Regulations.

Executive Order 13357 superseded a series of general licenses and amendments thereof, effective February 26, 2004, April 2, 2004, April 23, 2004, and August 6, 2004, which had authorized certain travel-related and residence-related transactions, as well as certain new transactions with Libya. The text of these licenses is available on the Office of Foreign Assets Control Web site at: http://www.treas.gov/offices/enforcement/ofac/sanctions/sanctguide-libya.shtml.

Please note that certain transactions involving the Government of Libya, including entities owned or controlled by the Government of Libya, remain subject to the Terrorism List Governments Sanctions Regulations, 31 CFR part 596.

On January 15, 2004, the President issued Executive Order 13324 (69 FR 2823, January 20, 2004), terminating the national emergency declared with respect to the illicit trade in diamonds from Sierra Leone and Liberia and revoking Executive Orders 13194 and 13213. Please note that the President issued Executive Order 13448 on July 27, 2004, declaring a national emergency with respect to the actions and policies of former Liberian President Charles Taylor and other persons. This order, which remains in effect, blocks the assets of, and prohibits transactions with, these and other subsequently-designated persons.

In addition, on July 29, 2003, the President issued Executive Order 13312, implementing the Clean Diamond Trade Act, Pub. L. 108-19, and the Kimberly Process Certification Scheme for rough diamonds. Executive Order 13312 prohibits, subject to certain Presidential waiver authorities, the importation into, and exportation from, the United States of any rough diamonds, from whatever source, not controlled through the Kimberly Process Certification Scheme. To implement Executive Order 13312, the Office of Foreign Assets Control (“OFAC”) issued interim regulations, effective July 30, 2003, under 31 CFR part 592, Rough Diamonds Control Regulations (68 Fed. Reg. 45777, August 4, 2003); on September 23, 2004, OFAC issued the final Rough Diamonds Control Regulations (69 Fed. Reg. 56936, September 23, 2004). As a result of these actions, all controls on rough diamonds are contained in 31 CFR part 592, Rough Diamonds Control Regulations.

Accordingly, OFAC is removing the Libyan Sanctions Regulations, 31 CFR part 550, the Angola (UNITA) Sanctions Regulations, 31 CFR part 590, and the Rough Diamonds (Liberia) Sanctions Regulations, 31 CFR part 591. Removal of these parts does not affect ongoing enforcement proceedings or prevent the initiation of enforcement proceedings where the relevant statute of limitations has not run.

Executive Order 12866, Administrative Procedure Act, Regulatory Flexibility Act, and Paperwork Reduction Act

Because the Libyan Sanctions Regulations, Angola (UNITA) Sanctions Regulations, and Rough Diamonds (Liberia) Sanctions Regulations involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

The Paperwork Reduction Act does not apply because this rule does not impose information collection requirements that would require the approval of the Office of Management and Budget under 44 U.S.C. 3501 et seq.

List of Subjects

31 CFR Part 550

Administrative practice and procedure, Banks, Banking, Currency, Foreign investments in United States, Foreign trade, Libya, Penalties, Reporting and recordkeeping requirements, Securities, Travel restrictions.

31 CFR Part 590

Administrative practice and procedure, Angola, Arms and munitions, Exports, Foreign trade, Penalties, Reporting and recordkeeping requirements, Transportation.

31 CFR Part 591

Administrative practice and procedure, Diamonds, Exports, Foreign trade, Imports, Liberia, Penalties, Reporting and recordkeeping requirements.

PARTS 550, 590 AND 591—[REMOVED]

For the reasons set forth in the preamble, and under the authority of 50 U.S.C. 1701 et seq. and Executive Orders 13298, 13324, and 13357, 31 CFR chapter V is amended by removing parts 550, 590, and 591.

Dated: March 6, 2006.
Barbara C. Hammerle,
Acting Director, Office of Foreign Assets Control.

[FR Doc. 06-3024 Filed 3-29-06; 8:45 am]

BILLING CODE 4810-25-P